DEPARTMENT OF TRANSPORTATION

Federal Highway Administration

[FHWA Docket No. FHWA-2006-24307]

ITS Program Advisory Committee to the Secretary of Transportation

AGENCY: Federal Highway Administration (FHWA), DOT.

ACTION: Notice of intent to form an advisory committee.

SUMMARY: Pursuant to section 5305(h) of the Safe, Accountable, Flexible, Efficient Transportation Equity Act: A Legacy for Users (SAFETEA-LU), the Secretary of Transportation, acting through the Acting Administrator of the Federal Highway Administration, is establishing an advisory committee to advise the Secretary on carrying out the Department of Transportation's Intelligent Transportation System (ITS) Program. The purpose of this notice is to invite interested parties to submit comments on the issues to be discussed, and submit the names of organizations and participants to be considered for representation on the committee.

DATES: You should submit your comments or nominations for membership on the committee on or before June 2, 2006.

FOR FURTHER INFORMATION CONTACT: Mr. Michael Freitas, Managing Director, ITS Joint Program Office, (202) 366-9292; Ms. Robin Fields, Office of the Chief Counsel, (202) 366-4099; or Mr. Wil Baccus, Office of the Chief Counsel, (202) 366-1396; 400 Seventh Street, SW., Washington, DC 20590. Office hours are from 7:45 a.m. to 4:15 p.m., e.t., Monday through Friday, except Federal holidays.

SUPPLEMENTARY INFORMATION:

Electronic Access

You may submit or retrieve comments online through the Document Management System (DMS) at: http://dms.dot.gov/submit. The DMS is available 24 hours each day, 365 days each year. Electronic submission and retrieval help and guidelines are available under the help section of the Web site.

An electronic copy of this document may be downloaded from the Federal Register's home page at: http://www.archives.gov and the Government Printing Office's database at: http://www.access.gpo.gov/nara.

Anyone is able to search the electronic form of all comments received into any of our dockets by the name of the individual submitting the comment (or signing the comment, if submitted on behalf of an association, business, labor union, etc.). You may review DOT's complete Privacy Act Statement in the Federal Register published on April 11, 2000 (70 FR 19477), or you may visit http://dms.dot.gov.

Please note that even after the comment closing date, we will continue to file relevant information in the Docket as it becomes available. Further, some people may submit late comments and we recommend that you periodically check the Docket for new material.

Background

On August 10, 2005, the President signed into law the Safe, Accountable, Flexible, Efficient Transportation Equity Act: A Legacy for Users (SAFETEA-LU) (Pub. L. 109-59, 119 Stat. 1144). Title V, Subtitle C, section 5305(h) mandates the establishment of an ITS Program Advisory Committee.

A. Notice of Intent To Establish an Advisory Committee and Request for Comment

In accordance with the requirements of the Federal Advisory Committee Act (FACA), 5 U.S.C. App II, section 1, an agency of the Federal Government cannot establish or utilize a group of people in the interest of obtaining consensus advice or recommendations unless that group is chartered as a Federal advisory committee. The purpose of this notice is to indicate the Department's intent to create a Federal advisory committee, under FACA, in order to invite interested parties to submit comments on ITS issues to be considered by the committee and to submit the names of organizations and participants to be considered for representation on the committee.

B. Name of Committee

ITS Program Advisory Committee to the Secretary of Transportation.

C. Purpose and Objective

The ITS Program Advisory Committee to the Secretary of Transportation (ITSAC-OST) will advise the Secretary of the Department of Transportation by:

1. Providing input into the development of the Intelligent Transportation System aspects of the strategic plan under section 508 of title 23, United States Code; and

2. Reviewing, at least annually, areas of intelligent transportation systems research being considered for funding by the Department, to determine—

(i) Whether these activities are likely to advance either the state-of-the practice or state-of-the art in intelligent transportation systems;

(ii) Whether the intelligent transportation system technologies are likely to be deployed by users, and if not, to determine the barriers to deployment; and

(iii) The appropriate roles for government and the private sector in investing in the research and technologies being considered.

ITSAC-OST does not exercise program management or regulatory development responsibilities and makes no decisions directly affecting the programs on which it provides advice. ITSAC-OST provides a forum for the development, consideration, and communication of information from a knowledgeable and independent perspective.

D. Balanced Membership Plans

According to section 5305(h) of SAFETEA-LU, the ITSAC-OST shall have no more than 20 members, be balanced between metropolitan and rural interests, and include, at a minimum—

(1) A representative from a State highway department;

(2) A representative from a local highway department who is not from a metropolitan planning organization;

(3) A representative from a State, local, or regional transit agency;

(4) A representative from a metropolitan planning organization;

(5) A private sector user of intelligent transportation system technologies;

(6) An academic researcher with expertise in computer science or another information science field related to intelligent transportation systems who is not an expert on transportation issues;

(7) An academic researcher who is a civil engineer;

(8) An academic researcher who is a social scientist with expertise in transportation issues;

(9) A representative from a nonprofit group representing the intelligent transportation system industry;

(10) A representative from a public interest group concerned with safety;

(11) A representative from a public interest group concerned with the impact of the transportation system on land use and residential patterns; and

(12) Members with expertise in planning, safety, and operations.

This document gives notice of this process to potential participants and affords them the opportunity to request representation on the ITSAC-OST. The procedure for requesting such representation is set out below. In addition, comments and suggestions for potential participants are invited.

The Department is aware that there are many more potential organizations and participants than there are membership slots on the committee. Organizations and participants should be prepared to support their participation on the committee.

It is very important to recognize that interested parties who are not selected to membership on the committee can make valuable contributions to the work of the ITSAC-OST in any of several ways. The person or organization could request to be placed on the committee mailing list, submitting written comments, as appropriate. Any member of the public could attend the committee meetings, and, as provided in FACA, speak to the committee. Time will be set aside during each meeting for this purpose, consistent with the committee's need for sufficient time to complete its deliberations.

E. Applications for Membership

Each application for membership or nomination to the committee should include:

(1) The name of the applicant or nominee and the interest(s) identified in Section 5305(h) such person would represent;

(2) Evidence that the applicant or nominee is authorized to represent parties related to the interest(s) the person proposes to represent; and

(3) A written commitment that the applicant or nominee would participate in good faith.

Every effort is made to select committee members who are objective. A balance is needed and weight is given to a variety of factors including but not limited to geographical distribution, gender, minority status, organization, and expertise.

F. Duration

Continuing.

G. Notice of Establishment

After evaluating comments received as a result of this notice, the Department will issue a notice announcing the establishment and composition of the committee.

(Authority: Section 5305(h), Public Law 109-59, 119 Stat. 1144)

Issued on: April 28, 2006.
J. Richard Capka,
Acting Federal Highway Administrator.

[FR Doc. E6-6687 Filed 5-2-06; 8:45 am]

BILLING CODE 4910-22-P